DEPARTMENT OF DEFENSE

Department of the Army; Corps of Engineers

Availability of Draft Environmental Impact Statement for the Dallas Floodway Project, in the City of Dallas, Dallas County, TX

AGENCY: Department of the Army, U.S. Army Corps of Engineers, DoD.

ACTION: Notice; extension of comment period.

SUMMARY: The comment period for the Availability of Draft Environmental Impact Statement for the Dallas Floodway Project, in the City of Dallas, Dallas County, TX published in the Federal Register on Friday, December 19, 2014 (79 FR 75794), required comments be postmarked on or before January 18, 2015. The comment period has been extended to February 2, 2015.

FOR FURTHER INFORMATION CONTACT: Marcia Hackett at (817) 886-1373 or via email at marcia.r.hackett@usace.army.mil.

Brenda S. Bowen,
Army Federal Register Liaison Officer.

[FR Doc. 2015-00424 Filed 1-14-15; 8:45 am]

BILLING CODE 3720-58-P